DEPARTMENT OF COMMERCE

National Oceanic and Atmospheric Administration

50 CFR Part 660

RIN 0648-BI35

Magnuson-Stevens Act Provisions; Fisheries off West Coast States; Pacific Coast Groundfish Fishery; Pacific Coast Groundfish Fishery Management Plan; Amendment 21-4; Trawl Catch Share Program

AGENCY: National Marine Fisheries Service (NMFS), National Oceanic and Atmospheric Administration (NOAA), Commerce.

ACTION: Announcement of availability of fishery management plan amendment; request for comments.

SUMMARY: NMFS announces that the Pacific Fishery Management Council submitted Amendment 21-4 to the Pacific Coast Groundfish Fishery Management Plan to the Secretary of Commerce for review. If approved, Amendment 21-4 would adjust the Pacific Coast Groundfish Fishery Catch Share Program to complete outstanding elements of the program, respond to problems identified after program implementation, and modify outdated regulations. The proposed Amendment would convert bycatch allocations of canary and widow rockfish to set-asides in the at-sea whiting fishery and remove fixed formulas used to determine bycatch amounts of Pacific Ocean Perch, darkblotched rockfish and widow rockfish in the at-sea whiting sectors. Bycatch amounts would instead be determined through the biennial harvest specification process, which would offer more flexible bycatch management for the at-sea sectors. The proposed rule implementing this proposed FMP amendment includes other regulatory changes which would provide increased opportunity to trade individual fishing quota, accumulation limits for catcher-processor permits, and expand economic data collections. The rule will help to ensure the Pacific Coast Groundfish fishery achieves optimum yield, minimize costs of participation, provide fair and equitable access to fishery resources, and avoid adverse economic impacts to fishing communities.

DATES: Comments on Amendment 21-4 must be received on or before October 29, 2019.

ADDRESSES: You may submit comments on this document, identified by NOAA-NMFS-2019-0106, by any of the following methods;

• Electronic Submission: Submit all electronic public comments via the Federal e-Rulemaking Portal. Go to www.regulations.gov/#!docketDetail;D=NOAA-NMFS-2019-0106, click the “Comment Now!” icon, complete the required fields, and enter or attach your comments.

• Mail: Submit written comments to Barry A. Thom., Regional Administrator, 7600 Sand Point Way NE, Seattle, WA 98115.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Information relevant to Amendment 21-4, which includes two memos categorically excluding this action from further National Environmental Protection Act review, a regulatory impact review (RIR), and an initial regulatory flexibility analysis (RFA) are available for public review during business hours at the NMFS West Coast Regional Office at 7600 Sand Point Way NE, Seattle, WA 98115, or by requesting them via phone or the email address listed in the FOR FURTHER INFORMATION CONTACT section. Copies of additional reports referred to in this document may also be obtained from the Pacific Fishery Management Council.

Electronic Access

FMP Amendment 21-4, background information and documents are available at the Pacific Fishery Management Council website at http://www.pcouncil.org/groundfish/fishery-management-plan/groundfish-amendments-in-development/. Additional background documents are available at the NMFS West Coast Region website at http://www.westcoast.fisheries.noaa.gov/fisheries/groundfish/index.html.

FOR FURTHER INFORMATION CONTACT: Colin Sayre, phone: 206-526-4656, or email: colin.sayre@noaa.gov.

SUPPLEMENTARY INFORMATION: NMFS manages the groundfish fisheries in the exclusive economic zone off Washington, Oregon, and California under the Pacific Coast Groundfish Fishery Management Plan (FMP). The Pacific Fishery Management Council (Council) prepared and NMFS implemented the Pacific Coast Groundfish FMP under the authority of the Magnuson-Stevens Fishery Conservation and Management Act (Magnuson-Stevens Act), 16 U.S.C. 1801 et seq. and through regulations at 50 CFR parts 600 and 660.

The Magnuson-Stevens Act requires each regional fishery management council to submit any federal management plan (FMP) or plan amendment to NMFS for review and approval, disapproval, or partial approval by the Secretary of Commerce. The Magnuson-Stevens Act also requires that NMFS, upon receiving an FMP or amendment, immediately publish notification that the FMP or amendment is available for public review and comment. This document announces that Amendment 21-4 to the Pacific Coast Groundfish FMP is available for public review and comment. NMFS will consider the public input received during the comment period in determining whether to approve, partially approve, or disapprove Amendment 21-4 to the Pacific Coast Groundfish FMP. Amendment 21-4 proposes changing the bycatch allocation for canary and widow rockfish to set-asides in the at-sea whiting sectors and removing formulas for determining amounts of expected bycatch in the at-sea whiting sectors for three species: Pacific ocean perch (POP), darkblotched rockfish, and widow rockfish. This change would allow the at-sea whiting sector to more efficiently harvest its full allocation through set-aside management of constraining bycatch species.

The proposed rule implementing the proposed FMP amendment also includes several follow-on action adjustments to regulations for the Pacific Coast Groundfish Catch Share Program to complete outstanding elements of the program, respond to problems identified after program implementation, and modify outdated regulations. These changes would improve the quota trading system to increase overall fishing quota utilization for the shorebased IFQ sector; ensure fair and equitable access to fishery resources in the event the C/P co-op dissolves; and provide a more complete socio-economic evaluation of Catch Share program performance.

Proposed FMP Amendment: At-Sea Whiting Fishery Bycatch Needs and Set-Aside Management

The proposed FMP amendment would adjust how bycatch allocations for darkblotched rockfish, Pacific ocean perch (POP), canary rockfish, and widow rockfish the at-sea whiting fishery are set and managed. The 2018 final rule implementing Amendment 21-3 (January 8, 2018; 83 FR 757) converted formal “hard cap” bycatch allocations of darkblotched and POP in at-sea whiting sectors to set-asides, which are an off the top deductions of expected bycatch from the annual catch limits (ACL) for the at-sea sectors. The proposed FMP amendment would convert formal bycatch allocations of canary and widow rockfish to set-asides in the at-sea whiting fishery as well as remove existing formulas used to determine set-aside amounts of darkblotched rockfish, POP, and widow rockfish. The Council would instead determine set-aside amounts biennially as part of the Pacific Coast Groundfish harvest specifications. If a sector exceeds its set-aside amount the fishery would not be subject to automatic closure. Instead, NMFS would have the authority to take routine inseason action when a set-aside is exceeded to prevent risk of exceeding other key harvest guidelines. Routine inseason actions include temporary area closures, and other temporary effort restrictions that would prevent overfishing of bycatch stocks, but allow the Pacific whiting sectors to harvest their full allocation. The Council recommended these management measures to reduce the risk of the at-sea Pacific whiting sectors not attaining their respective whiting allocations because of fishery closures to limit incidental catch of widow, canary, darkblotched rockfish or POP. The proposed FMP amendment is intended to allow the Council increased flexibility to adjust bycatch limits inseason for the at-sea whiting sectors within annual catch limits and harvest guidelines, address specific needs of the sector in a timely manner, and allow full attainment of at-sea whiting allocations by reducing the risk of automatic closure.

Proposed Follow-On Action Regulatory Changes

The proposed rule implementing Amendment 21-4 also includes the following regulatory changes:

A. Shorebased IFQ Trawl Sector Quota Trading

This action would allow the shorebased individual fishing quota (IFQ) sector to trade unused quota pounds (QP) after the end of a fishing year to cover deficits from the previous fishing year. In covering deficits after the end of the fishing year, vessel account owners would be allowed to cover QP deficits that exceed the annual vessel limit for a given stock. This action would also eliminate the September 1st expiration deadline for QP that have not been transferred from quota share accounts to vessel accounts. These changes would provide shorebased IFQ participants greater flexibility and economic efficiency to fully utilize IFQ issued each year.

B. Catcher Processor (C/P) Sector Accumulation Limits

This action would set accumulation limits for the Catcher Processor (C/P) co-op sector. The proposed rule would limit individuals or entities to owning or controlling a maximum of five C/P endorsed permits. Accumulation limits would become effective only in the event the current cooperative management structure for the at-sea C/P sector dissolves and an IFQ program is implemented.

C. New Data Collections

This action would require new data collections from C/P permit owners and Quota Share permit owners. C/P endorsed permit owners would be required to complete trawl ownership interest forms currently required during annual renewal of Catcher Vessel and Mothership permits. Catcher Vessels, Motherships, and shorebased processors are currently required to respond to this data collection. This requirement is necessary to monitor compliance with accumulation limits. The proposed action would also require Quota Share permit owners that do not also own, charter or lease a vessel, shorebased processor or first receiver site to submit participation and quota cost/earning information through a subset of the Catch Share Economic Data Collection program. The new economic data collections would allow managers to better evaluate Catch Share program performance.

NMFS welcomes comments on the proposed FMP amendment through the end of the comment period. NMFS submitted a proposed rule to implement Amendment 21-4 and associated actions for Secretarial review and approval, and expects to publish and request public review and comment on proposed regulations to implement Amendment 21-4 and associated actions in the near future. For public comments on the proposed rule to be considered in the approval or disapproval decision on Amendment 21-4, those comments must be received by the end of the comment period on the amendment. All comments received by the end of the comment period for the amendment, whether specifically directed to the amendment or the proposed rule, will be considered in the approval/disapproval decision.

Authority: 16 U.S.C. 1801 et seq.

Dated: August 27, 2019.
Jennifer M. Wallace,
Acting Director, Office of Sustainable Fisheries, National Marine Fisheries Service.

[FR Doc. 2019-18794 Filed 8-29-19; 8:45 am]

BILLING CODE 3510-22-P